DEPARTMENT OF VETERANS AFFAIRS

[OMB Control No. 2900-0091]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on the information needed to determine a veteran's eligibility for health care benefits or enrollment in the VA health care system.

DATES: Written comments and recommendations on the proposed collection of information should be received on or before January 5, 2004.

ADDRESSES: Submit written comments on the collection of information to Ann Bickoff, Veterans Health Administration (193B1), Department of Veterans Affairs, 810 Vermont Avenue NW., Washington, DC 20420 or e-mail ann.bickoff@mail.va.gov. Please refer to “OMB Control No. 2900-0091” in any correspondence.

FOR FURTHER INFORMATION CONTACT: Ann Bickoff at (202) 273-8310.

SUPPLEMENTARY INFORMATION: Under the PRA of 1995 (Pub. L. 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) way to minimize the burden of the collection of information on respondents, including through the use of automated collection techniques or the use of other forms of information technology.

Titles:

a. Application for Health Benefits, VA Form 10-10EZ.

b. Health Benefits Renewal Form, VA Form 10-10EZR

OMB Control Number: 2900-0091.

Type of Review: Revision of a currently approved collection.

Abstract:

a. VA Form 10-10EZ is used by veterans to enroll for health care benefits.

b. VA Form 10-10EZR is used by veterans to update their application data.

Affected Public: Individuals or households.

Estimated Annual Burden: 925,000 hours.

a. VA Form 10-10EZ—525,000 hours.

b. VA Form 10-10EZR—400,000.

Estimated Average Burden Per Respondent:

a. VA Form 10-10EZ—45 minutes.

b. VA Form 10-10EZR—20 minutes.

Frequency of Response: Annually.

Estimated Number of Respondents: 1,900,000

a. VA Form 10-10EZ—700,000.

b. VA Form 10-10EZR—1,200,000.

Dated: October 23, 2003.
By direction of the Secretary.
Jacqueline Parks,
IT Specialist, Records Management Service.

[FR Doc. 03-27724 Filed 11-4-03; 8:45 am]

BILLING CODE 8320-01-P